DEPARTMENT OF HEALTH AND HUMAN SERVICES

Administration for Children and Families

Proposed Information Collection Activity; State Self-Assessment Review and Report (Office of Management and Budget No.: 0970-0223)

AGENCY: Office of Child Support Services, Administration for Children and Families, Department of Health and Human Services.

ACTION: Request for public comments.

SUMMARY: The Administration for Children and Families (ACF), Office of Child Support Services (OCSS), is requesting the Office of Management and Budget (OMB) to approve the State Self-Assessment Review and Report (SARR) (OMB#: 0970-0223) for an additional three years with revisions to the instrument reflecting the name change from the Office of Child Support Enforcement to the Office of Child Support Services. The information collected in the reports helps state child support agencies and OCSS determine whether the agencies meet federal child support performance requirements. The current OMB approval expires on May 31, 2025.

DATES: Comments due November 4, 2024. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION:

Description: State child support agencies are statutorily required to annually assess the performance of their child support programs and to provide a report of the findings to the Secretary of the U.S. Department of Health and Human Services. The information collected in the SARR is used as a management tool to determine whether states are complying with federal mandates and to help states evaluate their programs and assess performances.

Respondents: States and territories administering a child support program under title IV-D of the Social Security Act.

Annual Burden Estimates
Information collection | Total number of annual respondents | Total number of annual responses per respondent | Average annual burden hours per response | Annual burden hours
State Self-Assessment Review and Report | 54 | 1 | 8 | 432

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 654(15)(A); 45 CFR 308.1(e).

Mary C. Jones,
ACF/OPRE Certifying Officer.

[FR Doc. 2024-19806 Filed 9-3-24; 8:45 am]

BILLING CODE 4184-41-P